DEPARTMENT OF AGRICULTURE

Forest Service

Madera County Resource Advisory Committee

AGENCY: Forest Service, USDA.

ACTION: Notice of Resource Advisory Committee meeting.

SUMMARY: Pursuant to the authorities in the Federal Advisory Committee Act of 1972 (Public Law 92-463) and under the secure Rural Schools and Community Self-Determination Act of 2000 (Public Law 106-393) the Sierra National Forest's Resource Advisory Committee for Madera County will meet on Monday, September 20, 2004. The Madera Resource Advisory Committee will meet at the Forest Service Office, North Fork, CA, 93643. The purpose of the meeting is: Review the RAC accomplishments from 2002 to 2004, close out any old business.

DATES: The Madera Resource Advisory Committee meeting will be held Monday, September 20, 2004. The meeting will be held from 7 p.m. to 9 p.m.

ADDRESSES: The Madera County RAC meeting will be held at the Forest Service Office, 57003 Road 225, North Fork, CA 93644.

FOR FURTHER INFORMATION CONTACT: Dave Martin, USDA, Sierra National Forest, Bass Lake Ranger District, 57003 Road 225, North Fork, CA, 93643 (559) 877-2218 ext. 3100; e-mail dmartin05@fs.fed.us.

SUPPLEMENTARY INFORMATION: Agenda items to be covered include: (1) Review the RAC accomplishments from 2002 to 2004, (2) close out any old business.

Dated: August 24, 2004.
David W. Martin,
District Ranger, Bass Lake Ranger District.

[FR Doc. 04-19836 Filed 8-30-04; 8:45 am]

BILLING CODE 3410-11-M